ENVIRONMENTAL PROTECTION AGENCY

40 CFR Part 18

[FRL-8053-3]

RIN 2030-AA91

Environmental Protection Research Fellowships and Special Research Consultants for Environmental Protection

AGENCY: Environmental Protection Agency (EPA).

ACTION: Direct final rule.

SUMMARY: The EPA is taking direct final action on the implementation of the EPA's statutory authority in Title II of the Interior, Environment, and Related Agencies Appropriations Act of 2006 (Pub. L. 109-54) that will allow the EPA to establish fellowships in environmental protection research, appoint fellows to conduct this research, and appoint special research consultants to advise on environmental protection research. Under an administrative provision of Public Law 109-54, the Administrator may, after consultation with the Office of Personnel Management, make up to five (5) appointments in any fiscal year from 2006 to 2011 for the Office of Research and Development. Appointees under this authority shall be employees of the EPA and will engage in activities related to scientific and engineering research that support EPA's mission to protect the environment and human health.

DATES: This rule is effective on June 5, 2006 without further notice, unless the EPA receives adverse comment by May 4, 2006. If we receive such comment, we will publish a timely withdrawal in the Federal Register informing the public that this rule will not take effect.

ADDRESSES: Submit your comments, identified by Docket ID No. EPA-HQ-OARM-2006-0249, by one of the following methods:

• Federal Docket Management System (FDMS): http://www.regulations.gov. Follow the on-line instructions for submitting comments.

• Mail: John O'Brien, Office of Human Resources/Office of Administration and Resources Management, Mail Code: 3631M, United States Environmental Protection Agency, 1200 Pennsylvania Ave., NW., Washington, DC 20460; e-mail address: obrien.johnt@epa.gov.

• Hand Delivery: Office of Environmental Information Docket, Environmental Protection Agency, EPA West Building, Room B102, 1301 Constitution Ave., NW., Washington, DC 20460. Such deliveries are only accepted during the Docket's normal hours of operation, and special arrangements should be made for deliveries of boxed information.

Instructions: Direct your comments to Docket ID No. EPA-HQ-OARM-2006-0249. The EPA's policy is that all comments received will be included in the public docket without change and may be made available online at http://www.regulations.gov, including any personal information provided, unless the comment includes information claimed to be Confidential Business Information (CBI) or other information whose disclosure is restricted by statute. Do not submit information that you consider to be CBI or otherwise protected through Federal Docket Management System (FDMS) or e-mail. FDMS is an “anonymous access” system. This means that the EPA will not know your identity or contact information unless you provide it in the body of your comment. If you send an e-mail comment directly to the EPA without going through FDMS, your e-mail address will be automatically captured and included as part of the comment that is placed in the public docket and made available on the Internet. The EPA recommends that you include your name and other contact information in the body of your electronic comment with any disk or CD-ROM you submit. If the EPA cannot read your comment due to technical difficulties and cannot contact you for clarification, the EPA may not be able to consider your comment. Electronic files should avoid the use of special characters, any form of encryption, and be free of any defects or viruses.

Docket: All documents in the docket are listed in FDMS at http://www.regulations.gov. Although listed in the index, some information is not publicly available, i.e., CBI or other information whose disclosure is restricted by statute. Certain other material, such as copyrighted material, is not placed on the Internet and will be publicly available only in hard copy form. Publicly available docket materials are available either electronically in FDMS or in hard copy at the Office of Environmental Information Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Office of Environmental Information Docket is (202) 566-1752.

FOR FURTHER INFORMATION CONTACT: For further information, please contact John O'Brien at (202) 564-7876, Office of Human Resources/Office of Administration and Resources Management, Mail Code 3631M, Room 1136 EPA-East, United States Environmental Protection Agency, 1200 Pennsylvania Ave., NW., Washington, DC 20460; e-mail address: obrien.johnt@epa.gov. You may also contact William Ocampo at (202) 564-0987 or Robert Stevens at (202) 564-5703, Office of Research and Development, Mail Code 8102R, United States Environmental Protection Agency, 1200 Pennsylvania Ave., NW., Washington, DC 20460; e-mail addresses: ocampo.william@epa.gov and stevens.robert@epa.gov.

SUPPLEMENTARY INFORMATION: The EPA is publishing this rule without prior proposal because we view this as a non-controversial amendment and anticipate no adverse comment. We anticipate no adverse comment because this rule implements statutory authority for activities that affect management and personnel functions of the EPA with little or no impact on the entities that are normally regulated by the Agency or on the public in general. However, in the “Proposed Rules” section of today's Federal Register publication, we are publishing a separate document that will serve as the proposal to implement the EPA's statutory authority (in Title II of the Interior, Environment, and Related Agencies Appropriations Act of 2006 (Pub. L. 109-54) that together with 42 U.S.C. 209 will allow the EPA to establish fellowships in environmental protection research, appoint fellows to conduct this research, and appoint special research consultants to advise on environmental protection research) if adverse comments are filed. This rule will be effective on June 5, 2006 without further notice unless we receive adverse comment by May 4, 2006. If the EPA receives adverse comment, we will publish a timely withdrawal in the Federal Register informing the public that the rule will not take effect. We will address all public comments in a subsequent final rule based on the proposed rule. We will not institute a second comment period on this action. Any parties interested in commenting must do so at this time.

The EPA now has authority under 42 U.S.C. 209 to (1) Establish fellowships in environmental protection research and appoint fellows to conduct this research and (2) appoint environmental protection special consultants to advise on environmental protection research. This authority is not subject to the federal civil service laws for employees specified in 5 U.S.C. The EPA acquired this appointment authority in an administrative provision in Title II of the Interior, Environment and Related Agencies Appropriations Act. This provision authorizes the Administrator, after consultation with the Office of Personnel Management, to make up to five (5) appointments in any fiscal year from 2006 to 2011 for the Office of Research and Development under the authority provided in 42 U.S.C. 209. The EPA has not previously used the 42 U.S.C. 209 appointment authority, and hereby proposes to establish such rules as are necessary to implement the authority. Appointees under this authority will engage in activities related to scientific and engineering research that support the EPA's mission to protect the environment and human health and will be employees of the EPA.

Statutory and Executive Order Reviews

Executive Order 12866, Regulatory Planning and Review: Under Executive Order 12866, (58 FR 51,735 (October 4, 1993)) the Agency must determine whether the regulatory action is “significant,” and therefore, subject to OMB review and the requirements of the Executive Order. The Order defines “significant regulatory action” as one that is likely to result in a rule that may: have an annual effect on the economy of $100 million or more or adversely affect in a material way the economy, a sector of the economy, productivity, competition, jobs, the environment, public health or safety, or State, local, or tribal governments or communities; create a serious inconsistency or otherwise interfere with an action taken or planned by another agency; materially alter the budgetary impact of entitlements, grants, user fees, or loan programs or the rights and obligations of recipients thereof; or raise novel legal or policy issues arising out of legal mandates, the President's priorities, or the principles set forth in the Executive Order. It has been determined that this rule is not a “significant regulatory action” under the terms of Executive Order 12866, and is therefore, not subject to OMB review because the authority for establishing fellowships and appointing fellows and special consultants does not meet any of the criteria.

Paperwork Reduction Act: This action does not impose an information collection burden under the provisions of the Paperwork Reduction Act, 44 U.S.C. 3501 et seq. The action will authorize the Agency to recruit candidates for position vacancies and to require that candidates submit information relating to their qualifications for the vacancy. The information collected for such recruitment activities will follow the same guidelines as are currently followed by the Agency. Burden means the total time, effort, or financial resources expended by persons to generate, maintain, retain, disclose, or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. An agency may not conduct or sponsor, and a person is not required to respond to, a collection of information unless it displays a currently valid OMB control number. The OMB control numbers for the EPA's regulations are listed in 40 CFR part 9 and 48 CFR chapter 15.

Regulatory Flexibility Act: Today's final rule is not subject to the Regulatory Flexibility Act (RFA), as amended by the Small Business Regulatory Enforcement Fairness Act of 1996 (SBRERA), 5 U.S.C. 601 et seq. The RFA generally requires an agency to prepare a regulatory flexibility analysis for any rule that will have a significant economic impact on a substantial number of small entities. The RFA applies only to rules subject to notice-and-comment rulemaking requirements under the Administrative Procedure Act (APA) or any other statute. This rule is not subject to notice and comment requirements under the APA or any other statute because the rule pertains to agency management or personnel whom the APA expressly exempts from notice and comment rule making requirements (5 U.S.C. 553(a)(2)).

Unfunded Mandates Reform Act: Title II of the Unfunded Mandates Reform Act of 1995 (UMRA), (Pub. L. 104-4), establishes requirements for Federal agencies to assess the effects of their regulatory actions on State, local, and tribal governments and the private sector. Under section 202 of the UMRA, the EPA generally must prepare a written statement, including a cost-benefit analysis, for proposed and final rules with “Federal mandates” that may result in expenditures to State, local, and tribal governments in the aggregate, or to the private sector, of $100 million or more in any one year. Before promulgating an EPA rule for which a written statement is needed, section 205 of the UMRA generally requires the EPA to identify and consider a reasonable number of regulatory alternatives and to adopt the least costly, most cost-effective or least burdensome alternative that achieves the objectives of the rule. The provisions of section 205 do not apply when they are inconsistent with applicable law. Moreover, section 205 allows EPA to adopt an alternative other than the least costly, most cost-effective, or least burdensome alternative if the Administrator publishes an explanation on why that alternative was not adopted with the final rule. Before the EPA establishes any regulatory requirements that may significantly or uniquely affect small governments, including tribal governments, it must have developed under section 203 of the UMRA a small government agency plan. The plan must provide for notifying potentially affected small governments, enabling officials of affected small governments to have meaningful and timely input in the development of the EPA regulatory proposals with significant Federal intergovernmental mandates, and for informing, educating, and advising small governments on compliance with the regulatory requirements. Today's rule contains no Federal mandates (under the regulatory provisions of Title II of the UMRA) for State, local, or tribal governments or the private sector. The rule imposes no enforceable duty on any State, local, or tribal governments or the private sector; thus, today's rule is not subject to the requirements of sections 202 and 205 of the UMRA.

Executive Order 13132—Federalism: Executive Order 13132, entitled “Federalism” (64 FR 43255, August 10, 1999), requires the EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This final rule does not have federalism implications. It will not have substantial direct effects on the States, on the relationship between the national government and the States, or on the distribution of power and responsibilities among the various levels of government, as specified in Executive Order 13132. Thus, Executive Order 13132 does not apply to this rule.

Executive Order 13175—Consultation and Coordination with Indian Tribal Governments: Executive Order 13175, entitled “Consultation and Coordination with Indian Tribal Governments” (65 FR 67249, November 9, 2000), requires EPA to develop an accountable process to ensure “meaningful and timely input by tribal officials in the development of regulatory policies that have tribal implications.” This final rule does not have tribal implications, as specified in Executive Order 13175. This final rule pertains to the management and personnel functions of the EPA. Thus, Executive Order 13175 does not apply to this rule.

Executive Order 13045—Protection of Children from Environmental Health Risks and Safety Risks: (62 FR 19885, April 23, 1997) applies to any rule that (1) Is determined to be “economically significant” as defined under Executive Order 12866, and (2) concerns an environmental health or safety risk that the EPA has reason to believe may have a disproportionate effect on children. If the regulatory action meets both criteria, the Agency must evaluate the environmental health or safety effects of the planned rule on children, and explain why the planned regulation is preferable to other potentially effective and reasonably feasible alternatives considered by the Agency.

This direct final rule is not subject to the Executive Order because it is not economically significant as defined in Executive Order 12866, and because the Agency does not have reason to believe the environmental health or safety risks addressed by this action present a disproportionate risk to children.

Executive Order 13211—Actions that Significantly Affect Energy Supply, Distribution and Use: This rule is not subject to Executive Order 13211, “Actions Concerning Regulations That Significantly Affect Energy Supply, Distribution, or Use” (66 FR (May 22, 2001)) because it is not a significant regulatory action under Executive Order 12866.

National Technology Transfer and Advancement Act: Section 12(d) of the National Technology Transfer and Advancement Act of 1995 (“NTTAA”), Public Law No. 104-113, 12(d) (15 U.S.C. 272 note) directs the EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs the EPA to provide Congress, through OMB, explanations when EPA decides not to use available and applicable voluntary consensus standards. This action does not involve technical standards. Therefore, the EPA is not considering the use of any voluntary consensus standards.

Congressional Review Act: The Congressional Review Act, 5 U.S.C. 801 et seq., as added to by the Small Business Regulatory Enforcement Fairness Act of 1996, generally provides that before a rule may take effect, the agency promulgating the rule must submit a rule report, which includes a copy of the rule, to each House of the Congress and to the Comptroller General of the United States. Section 804 exempts from section 801 the following types of rules of particular applicability: rules relating to agency management or personnel; and rules of agency organization, procedure, or practice that do not substantially affect the rights or obligations of non-agency parties (5 U.S.C. 804(3). The EPA is not required to submit a rule report regarding today's action under section 801 because this is a rule relating to agency personnel.

List of Subjects in 40 CFR Part 18

Environmental protection, Administrative practice and procedure, Special employment actions.

Dated: March 27, 2006.
Stephen L. Johnson,
Administrator.

For the reasons set out in the preamble, 40 CFR chapter I is amended by adding part 18 as follows:

PART 18—ENVIRONMENTAL PROTECTION RESEARCH FELLOWSHIPS AND SPECIAL RESEARCH CONSULTANTS FOR ENVIRONMENTAL PROTECTION

Sec.
18.1 Definitions.
18.2 Applicability.
18.3 Purpose of Environmental Protection Research Fellowships.
18.4 Establishment of Environmental Protection Research Fellowships.
18.5 Qualifications of Environmental Protection Research Fellows.
18.6 Method of Application.
18.7 Selection and Appointment of Environmental Protection Research Fellows.
18.8 Stipends, Allowances, and Benefits.
18.9 Duration of Environmental Protection Research Fellowships.
18.10 Appointment of Special Research Consultants for Environmental Protection.
18.11 Standards of Conduct and Financial Disclosure.

Authority: 42 U.S.C. 209; Pub. L. 109-54, 119 Stat. 531.

§ 18.1 Definitions.

As used in this part, continental United States does not include Hawaii or Alaska. The Administrator means the Administrator of the EPA and any other officer or employee of the Agency to whom the authority involved may be delegated. An Environmental Protection Research Fellowship is one which requires the performance of services, either full or part time, for the EPA. A Special Research Consultant for Environmental Protection is a special consultant appointed to assist and advise in the operations of the research activities of the EPA.

§ 18.2 Applicability.

The regulations in this part apply to the establishment of Environmental Protection Research Fellowships, the designation of persons to receive such fellowships, the appointment of Environmental Protection Research fellows, and the appointment of Special Research Consultants for environmental protection in the EPA. The EPA's statutory authority for these actions is established in Title II of the Interior, Environmental and Related Agencies Appropriations Act of 2006 (Pub. L. 109-54). Under an administrative provision of Public Law 109-54 the Administrator may, after consultation with the Office of Personnel Management, make up to five (5) appointments in any fiscal year from 2006 to 2011 for the Office of Research and Development under the authority provided in 42 U.S.C. 209. Appointees under this statutory authority shall be employees of the EPA.

§ 18.3 Purpose of Environmental Protection Research Fellowships.

Environmental Protection Research Fellowships in the Agency are for the purpose of encouraging and promoting research, studies, and investigations related to the protection of human health and the environment. Such fellowships may be provided to secure the services of talented scientists and engineers for a period of limited duration for research that furthers the EPA's mission where the nature of the work or the character of the individual's services render customary employing methods impracticable or less effective.

§ 18.4 Establishment of Environmental Protection Research Fellowships.

All Environmental Protection Research fellowships shall be established by the Administrator or designee. In establishing an Environmental Protection Research fellowship, or a series of Environmental Protection Research fellowships, the Administrator shall prescribe in writing the conditions (in addition to those provided in the regulations in this part) under which Environmental Protection Research fellows will be appointed and will hold their fellowships.

§ 18.5 Qualifications for Environmental Protection Research Fellowships.

Scholastic and other qualifications shall be prescribed by the Administrator or designee for each Environmental Protection Research fellowship, or series of Environmental Protection Research fellowships. Each individual appointed to an Environmental Protection Research fellowship shall: have presented satisfactory evidence of general suitability, including professional and personal fitness; possess any other qualifications as reasonably may be prescribed; and meet all requirements and standards for documentation and disclosure of conflicts of interest and ethical professional conduct.

§ 18.6 Method of Application.

Application for an Environmental Protection Research fellowship shall be made in accordance with procedures established by the Administrator or designee.

§ 18.7 Selection and appointment of Environmental Protection Research Fellows.

The Administrator or designee shall do the following: prescribe a suitable professional and personal fitness review and an examination of the applicant's qualifications; designate in writing persons to receive Environmental Protection Research fellowships; and establish procedures for the appointment of Environmental Protection Research fellows.

§ 18.8 Stipends, Allowances, and Benefits.

(a) Stipends. Each Environmental Protection Research fellow shall be entitled to such stipend as is authorized by the Administrator or designee.

(b) Travel and transportation allowances. Under conditions prescribed by the Administrator or designee, an individual appointed as an Environmental Protection Research fellow may be authorized travel and transportation or relocation allowances for his or her immediate family under subchapter I of chapter 57 of title 5 U.S.C. 5701, in conjunction with travel authorized by the Administrator or designee. Included under this part is travel from place of residence, within or outside the continental United States, to first duty station; for any change of duty station ordered by the Administrator or designee during the term of the fellowship; and from last duty station to the place of residence which the individual left to accept the fellowship, or to some other place at no greater cost to the Government. An Environmental Protection Research fellow shall be entitled to travel allowances or transportation and per diem while traveling on official business away from his or her permanent duty station during the term of the fellowship. Except as otherwise provided herein, an Environmental Protection Research fellow shall be entitled to travel and transportation allowances authorized in this part at the same rates as may be authorized by law and regulations for other civilian employees of the EPA. If an Environmental Protection Research fellow dies during the term of a fellowship, and the place of residence that was left by the fellow to accept the fellowship was outside the continental United States, the payment of expenses of preparing the remains for burial and transporting them to the place of residence for interment may be authorized. In the case of deceased fellows whose place of residence was within the continental United States, payment of the expenses of preparing the remains and transporting them to the place of residence for interment may be authorized as provided for other civilian employees of the Agency.

(c) Benefits. In addition to other benefits provided herein, Environmental Protection Research fellows shall be entitled to benefits as provided by law or regulation for other civilian employees of the Agency.

(d) Training. Environmental Protection Research fellows are eligible for training at Government expense on the same basis as other Agency employees.

§ 18.9 Duration of Environmental Protection Research Fellowships.

Initial appointments to Environmental Protection Research fellowships may be made for varying periods not in excess of 5 years. Such an appointment may be extended for varying periods not in excess of 5 years for each period in accordance with procedures and requirements established by the Administrator or designee.

§ 18.10 Appointment of Special Research Consultants for Environmental Protection.

(a) Purpose. When the EPA requires the services of consultants with expertise in environmental sciences or engineering who cannot be obtained when needed through regular civil service appointment or under the compensation provisions of the Classification Act of 1949, Special Research Consultants may be appointed to assist and advise in the operations of the EPA, subject to the provisions of the following paragraphs and in accordance with such instructions as may be issued from time to time by the Administrator or designee.

(b) Appointments. Appointments, pursuant to the provisions of this section, may be made by those officials in the EPA to whom authority has been delegated by the Administrator or designee.

(c) Compensation. The per diem or other rates of compensation shall be fixed by the appointing officer in accordance with criteria established by the Administrator or designee.

§ 18.11 Standards of Conduct and Financial Disclosure.

All individuals appointed to an Environmental Protection Research Fellowship or as a Special Research Consultant shall be subject to the same current standards and disclosure regulations and requirements as Title 5 appointees.

[FR Doc. 06-3204 Filed 4-3-06; 8:45 am]

BILLING CODE 6560-50-P